OFFICE OF MANAGEMENT AND BUDGET

Draft 2003 Report to Congress on the Costs and Benefits of Federal Regulations

AGENCY: Office of Management and Budget, Executive Office of the President.

ACTION: Notice and request for comments.

SUMMARY: The Office of Management and Budget (OMB) is extending the comment period regarding its draft 2003 Report to Congress on the Costs and Benefits of Federal Regulations from April 3, 2003 to May 5, 2003. Chapter II of this draft Report requests comments from the public in three areas: (1) Guidelines for regulatory analysis; (2) Analysis and management of emerging risks; and (3) Improving analysis of regulations to homeland security.

DATES: Written comments regarding the Draft Report and the three specific areas are due by May 5, 2003.

ADDRESSES: We are still experiencing delays in the regular mail, including first class and express mail. To ensure that your comments are received, we recommend that comments on this draft Report be electronically mailed to OIRA_BC_RPT@omb.eop.gov, or faxed to (202) 395-7245. Comments on the OMB Draft Guidelines for the Conduct of Regulatory Analysis and the Format of Accounting Statements (Appendix C) should be e-mailed to OIRA_ECON_GUIDE@omb.eop.gov, or faxed, with the title “Comments on Draft Guidelines” identified in the transmittal page, to (202) 395-7245.

You may also submit comments to Lorraine Hunt, office of Information and Regulatory Affairs, Office of Management and Budget, NEOB, Room 10202, 725 17th Street, NW., Washington, DC 20503.

FOR FURTHER INFORMATION CONTACT: Lorraine Hunt, Office of Information and Regulatory Affairs, Office of Management and Budget, Washington, DC 20503. Telephone: (202) 395-3084.

SUPPLEMENTARY INFORMATION: On February 3, 2003 (68 FR 5492), OMB announced it was seeking comments on its Draft 2003 Report to Congress on the Costs and Benefits of Federal Regulations by April 3, 2003. OMB is now extending that comment period to May 5, 2003. The Draft 2003 Report to Congress on the Costs and Benefits of Federal Regulations, including OMB Draft Guidelines for the Conduct of Regulatory Analysis and the Format of Accounting Statements (Appendix C), are posted on OMB's Web site, http://www.whitehouse.gov/omb/inforeg/index.html.

John D. Graham,
Administrator, Office of Information and Regulatory Affairs.

[FR Doc. 03-7717 Filed 3-31-03; 8:45 am]

BILLING CODE 3110-01-P